DEPARTMENT OF HOUSING AND URBAN DEVELOPMENT

[Docket No. FR-6141-N-05]

Notice of a Federal Advisory Committee Meeting; Manufactured Housing Consensus Committee: Regulatory Enforcement Subcommittee

AGENCY: Office of the Assistant Secretary for Housing—Federal Housing Commissioner, Department of Housing and Urban Development (HUD).

ACTION: Notice of a Federal Advisory Committee Meeting: Manufactured Housing Consensus Committee (MHCC).

SUMMARY: This notice sets forth the schedule and proposed agenda for two teleconference meetings of the MHCC Regulatory Enforcement Subcommittee. The meetings are open to the public. The agenda for each meeting provides an opportunity for citizens to comment on the business before the MHCC.

DATES: The meetings will be held on August 6, 2019, 10:00 a.m. to 4:00 p.m. Eastern Daylight Time (EDT) and August 14, 2019, 10:00 a.m. to 4:00 p.m. Eastern Daylight Time (EDT). The teleconference number for each teleconference is U.S. toll-free: 866-628-5137 and Participant Code: 4325435. To access the webinar, use the following link: https://zoom.us/j/726442049.

FOR FURTHER INFORMATION CONTACT: Teresa B. Payne, Acting Administrator, Office of Manufactured Housing Programs, Department of Housing and Urban Development, 451 7th Street SW, Room 9166, Washington, DC 20410, telephone 202-708-6423 (this is not a toll-free number). Persons who have difficulty hearing or speaking may access this number via TTY by calling the toll-free Federal Information Relay Service at 800-877-8339.

SUPPLEMENTARY INFORMATION: Notice of this meeting is provided in accordance with the Federal Advisory Committee Act, 5. U.S.C. App. 10(a)(2) through implementing regulations at 41 CFR 102-3.150. The MHCC was established by the National Manufactured Housing Construction and Safety Standards Act of 1974, 42 U.S.C. 5403(a)(3), as amended by the Manufactured Housing Improvement Act of 2000, (Pub. L. 106-569). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b);

• Be organized and carry out its business in a manner that guarantees a fair opportunity for the expression and consideration of various positions and for public participation.

The MHCC is deemed an advisory committee not composed of Federal employees.

Public Comment: Citizens wishing to make comments on the business of the MHCC must register by contacting Home Innovation Research Labs; Attention: Kevin Kauffman, 400 Prince Georges Blvd., Upper Marlboro, MD 20774, or email to mhcc@homeinnovation.com or call 1-888-602-4663. With advance registration, members of the public will have an opportunity to provide oral or written comments relative to agenda topics for the Subcommittee's consideration. For the August 6, 2019 teleconference, the written comments must be provided no later than August 2, 2019 and for the August 14, 2019 teleconference, the written comments must be provided by August 12, 2019 to mhcc@homeinnovation.com. Please note, written statements submitted will not be read during the meeting but will be provided to the Subcommittee members prior to the meeting.

The MHCC will also provide an opportunity for oral public comments on specific matters before the Regulatory Enforcement Subcommittee. The total amount of time for oral comments will be 15 minutes with each commenter limited to two minutes to ensure pertinent Subcommittee business is completed. The Subcommittee will not respond to individual written or oral statements; however, it will take all public comments into account in its deliberations. The MHCC strives to accommodate citizen comments to the extent possible within the time constraints of the meeting agenda.

Tentative Agenda

Tuesday, August 6, 2019—10 a.m. to 4 p.m. ET

I. Call to Order and Roll Call

II. Opening Remarks—Subcommittee Chair & Designated Federal Officer (DFO)

III. Approval of minutes from April 2, 2019 Regulatory Enforcement Subcommittee meeting

IV. Public Comment Period—15 minutes

V. Assigned Deregulation Comments and Proposed Change Review Deregulation Comment Categories:

• Carports—DRC 16, DRC 126

• Alternative Construction Requirements—DRC 63, DRC 80, DRC 81, DRC 123, DRC 124, DRC 127, DRC 128, DRC 129

• Consumer Complaint Handling and Remedial Actions—DRC 26, DRC 27, DRC 139, DRC 140, DRC 141, DRC 142, DRC 143, DRC 144, DRC 145, DRC 146, DRC 147, DRC 148, DRC 149

• Dispute Resolution—DRC 6. DRC 249, DRC 250, DRC 251, DRC 252, DRC 253

• HUD Regulation—DRC 1, DRC 184, DRC 185, DRC 186, DRC 187, DRC 188, DRC 189, DRC 190, DRC 191, DRC 192, DRC 193, DRC 194, DRC 195, DRC 196, DRC 197

• On-Site Completion—DRC 2, DRC 4, DRC 17, DRC 18, DRC 28, DRC 86, DRC 87, DRC 88, DRC 89, DRC 90, DRC 91, DRC 92, DRC 97, DRC 98, DRC 100, DRC 101, DRC 108, DRC 109, DRC 110, DRC 111, DRC 112, DRC 113, DRC 114, DRC 115, DRC 116, DRC 117, DRC 118

• Preemption—DRC 130, DRC 131, DRC 132, DRC 133, DRC 134, DRC 135, DRC 136, DRC 137, DRC 138

• RV Rule—DRC 219, DRC 220, DRC 221, DRC 222, DRC 223, DRC 224, DRC 225, DRC 226, DRC 227, DRC 228

Proposed Changes Log:

• LOG 163, LOG 182, LOG 192, LOG 194, LOG 195, LOG 198

VI. Lunch from 12 p.m. to 1 p.m.

VII. Assigned Deregulation Comments and Proposed Change Review Continued

VIII. Public Comment Period—15 minutes

IX. Wrap Up—DFO & AO

X. Adjourn

Wednesday, August 14, 2019—10 a.m. to 4 p.m. ET

I. Call to Order and Roll Call

II. Opening Remarks—Subcommittee Chair & Designated Federal Officer (DFO)

III. Public Comment Period—15 minutes

IV. Assigned Deregulation Comments and Proposed Change Review Continued

V. Lunch from 12 p.m. to 1 p.m.

VI. Assigned Deregulation Comments and Proposed Change Review Continued

VII. Public Comment Period—15 minutes

VIII. Wrap Up—DFO & AO

IX. Adjourn

Dated: June 17, 2019.
John L. Garvin,
General Deputy Assistant Secretary, Office of Housing.

[FR Doc. 2019-13366 Filed 6-21-19; 8:45 am]

BILLING CODE 4210-67-P